DEPARTMENT OF TRANSPORTATION

Pipeline and Hazardous Materials Safety Administration

Notice of Delays in Processing of Special Permits Applications

AGENCY: Office of Hazardous Materials Safety, Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue SE., Washington, DC 20590-0001, (202) 366-4535

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

R—Renewal Request.

P—Party To Exemption Request.

Issued in Washington, DC, on January 6, 2012.
Donald Burger,
Chief, General Approvals and Permits.

Application No. | Applicant | Reason for delay | Estimated date of completion
Modification to Special Permits
13736-M | ConocoPhillips, Anchorage, AK | 4 | 03-31-2012
12561-M | Rhodia, Inc., Cranbury, NJ | 4 | 03-31-2012
14860-M | Alaska Airlines, Seattle, WA | 4 | 03-31-2012
14909-M | Lake Clark Air, Inc., Port Alsworth, AK | 4 | 03-31-2012
10656-M | Conference of Radiation Control Program Directors, Inc., Frankfort, KY | 4 | 03-31-2012
12629-M | TEA Technologies, Inc., Amarillo, TX | 4 | 03-31-2012
11406-M | Conference of Radiation Control Program Directors, Inc., Frankfort, KY | 4 | 03-31-2012
10898-M | Hydac Corporation, Bethlehem, PA | 3 | 03-31-2012
11670-M | Schlumberger Oilfield UK Plc Dyce, Aberdeen Scotland, Ab | 3 | 03-31-2012
14193-M | Honeywell International, Inc., Morristown, NJ | 4 | 03-31-2012
13336-M | Renaissance Industries, Inc., Sharpsville Operations M-1102, Sharpsville, PA | 4 | 03-31-2012
8723-M | Maine Drilling & Blasting, Auburn, NH | 4 | 03-31-2012
14584-M | WavesinSolids LLC, State College, PA | 4 | 03-31-2012
10646-M | Schlumberger Technologies Corporation, Sugar Land, TX | 4 | 03-31-2012
14457-M | Amtrol Alfa Metalomecanica, SA Portugal | 4 | 03-31-2012
12065-M | Rust-Oleum Corp., Pleasant Prairie, WI | 4 | 03-31-2012
15132-M | National Aeronautics and Space Administration (NASA) Washington, DC | 4 | 03-31-2012
9168-M | All-Pak Dangerous Goods, a Division of Berlin Packaging (Former Grantee All-Pak, Inc.), Bridgeville, PA | 4 | 03-31-2012
8826-M | Phoenix Air Group, Inc., Cartersville, GA | 4 | 03-31-2012
New Special Permit Applications
14813-N | Organ Recovery Systems Des, Plaines, IL | 4 | 03-31-2012
14929-N | Alaska Island Air, Inc., Togiak, AK | 4 | 03-31-2012
14951-N | Lincoln Composites, Lincoln, NE | 1 | 03-31-2012
15053-N | Department of Defense Scott, Air Force Base, IL | 4 | 03-31-2012
15080-N | Alaska Airlines, Seattle, WA | 1 | 03-31-2012
15233-N | ExpressJet Airlines, Inc., Houston, TX | 4 | 03-31-2012
15229-N | Linde Gas North America LLC, New Providence, NJ | 4 | 03-31-2012
15283-N | KwikBond Polymers, LLC, Benicia, CA | 4 | 03-31-2012
15334-N | Floating Pipeline Company Incorporated Halifax, Nova Scotia | 4 | 03-31-2012
15322-N | Digital Wave Corporation, Englewood, CO | 4 | 03-31-2012
15317-N | The Dow Chemical Company, Philadelphia, PA | 4 | 03-31-2012
15360-N | FMC Corporation, Tonawanda, NY | 4 | 03-31-2012
15384-N | TEA Technologies, Inc., Amarillo, TX | 4 | 03-31-2012
15393-N | Savannah Acid Plant LLC, Savannah, GA | 3 | 03-31-2012
15510-N | TEMSCO Helicopters, Inc., Ketchikan, AK | 4 | 03-31-2012
14872-N | Arkema, Inc., King of Prussia, PA | 4 | 03-31-2012
Party to Special Permits Application
8723-P | Maxam US, LLC, Salt Lake City, UT | 4 | 03-31-2012
12412-P | ChemStation of Kansas City, Grain Valley, MO | 4 | 03-31-2012
10880-P | WESCO, Midvale, UT | 4 | 03-31-2012
8723-P | SLT Express Way Inc., Glendale, AZ | 4 | 03-31-2012
14173-P | Union Carbide Corporation, Hahnville, LA | 4 | 03-31-2012
8445-P | Babcock & Wilcox Technical Services, Pantex, LLC, Amarillo, TX | 4 | 03-31-2012
15161-P | Taylor & Crowe Battery Company, Bonita Springs, FL | 4 | 03-31-2012
8445-P | Amberwick Corp., Long Beach, CA | 4 | 03-31-2012
12325-P | United Oil Recovery D/B/A United Industrial Services, Meriden, CT | 4 | 03-31-2012
12134-P | Riceland Foods, Inc., Stuttgart, AR | 4 | 03-31-2012
Renewal Special Permits Applications
8445-R | Environmental Products & Services, Inc., Syracuse, NY | 4 | 03-31-2012
12443-R | Thatcher Company of Nevada, Henderson, NV | 4 | 03-31-2012
14482-R | Classic Helicopters Limited, L.C., Woods Cross, UT | 4 | 03-31-2012
11759-R | E.I. duPont de Neumours & Company, Inc., Wilmington, DE | 4 | 03-31-2012
14550-R | Air Liquide Electronics Materials F-71106, Chalon-sur-Saone Cedex | 4 | 03-31-2012
8723-R | Nelson Brothers Mining Services, LLC, Birmingham, AL | 4 | 03-31-2012
11749-R | Occidental Chemical Corporation, Dallas, TX | 4 | 03-31-2012
7891-R | Aldrich Chemical Company Inc., Milwaukee, WI | 4 | 03-31-2012
12283-R | Interstate Battery of Alaska, Anchorage, AK | 4 | 03-31-2012
4884-R | Airgas, Inc., Cheyenne, WY | 4 | 03-31-2012
7835-R | Airgas, Inc., Cheyenne, WY | 4 | 03-31-2012
7835-R | Air Liquide America L.P., Houston, TX | 4 | 03-31-2012
2787-R | Raytheon Company, Andover, MA | 4 | 03-31-2012
7887-R | Republic Environmental Systems (Pennsylvania), LLC, Hatfield, PA | 4 | 03-31-2012
10709-R | Schlumberger Technologies Corporation, Sugar Land, TX | 4 | 03-31-2012
9623-R | Orica USA Inc., Watkins, CO | 4 | 03-31-2012
11227-R | Schlumberger Well Services a Division of Schlumberger Technology Corporation, Sugar Land, TX | 4 | 03-31-2012
9929-R | Alliant Techsystems Inc., Propulsion & Controls (Former Grantee ATK Elkton), Elkton, MD | 4 | 03-31-2012
11903-R | Comptank Corporation, Bothwell, ON | 4 | 03-31-2012
11043-R | A & D Environmental Services, Inc., Archdale, NC | 4 | 03-31-2012
4850-R | Schlumberger Technology Corporation, Sugar Land, TX | 4 | 03-31-2012
11110-R | United Parcel Services Company, Louisville, KY | 4 | 03-31-2012
3004-R | Air Liquide America L.P., Houston, TX | 4 | 03-31-2012
10985-R | Domtar A.W. Corp., Ashdown, AR | 4 | 03-31-2012
8445-R | AET Environmental, Inc., Denver, CO | 4 | 03-31-2012
13161-R | Honeywell International Inc., Morristown, NJ | 4 | 03-31-2012
11043-R | AET Environmental, Inc., Denver, CO | 4 | 03-31-2012
11296-R | Environmental Waste Services, Inc., Elburn, IL | 4 | 03-31-2012
12283-R | AT&T Alascom, Anchorage, AK | 4 | 03-31-2012
7887-R | 21st Century Environmental Management, LLC of RI, Providence, RI | 4 | 03-31-2012
8445-R | Chemical Analytics, Inc., Romulus, MI | 4 | 03-31-2012
12412-R | American Development Corporation, Fayetteville, TN | 4 | 03-31-2012
6805-R | Air Liquide America LP, Houston, TX | 4 | 03-31-2012
5022-R | ATK Launch Systems Inc., Brigham City, UT | 4 | 03-31-2012
10650-R | Loveland Products, Inc., Billings, MT | 4 | 03-31-2012
15073-R | Utility Aviation, Inc., Loveland, CO | 4 | 03-31-2012
11043-R | Republic Environmental Systems, Pa. LLC, Hatfield, PA | 4 | 03-31-2012
11043-R | A & D Environmental Services (SC), LLC, Lexington, SC | 4 | 03-31-2012
11373-R | A & D Environmental Services (SC), LLC, Lexington, SC | 4 | 03-31-2012
13192-R | A & D Environmental Services (SC), LLC, Lexington, SC | 4 | 03-31-2012
8445-R | Advanced Waste Carriers, Inc., West Allis, WI | 4 | 03-31-2012
11215-R | Orbital Sciences Corporation, Mojave, CA | 4 | 03-31-2012
14823-R | FedEx Ground Package System, Inc., Moon Township, PA | 4 | 03-31-2012
12325-R | Air Liquide America L.P., Houston, TX | 4 | 03-31-2012
12412-R | FMC Corporation, Philadelphia, PA | 4 | 03-31-2012
11759-R | 3M, Saint Paul, MN | 4 | 03-31-2012
8723-R | Western Explosive Systems Company DBA WESCO, Midvale, UT | 4 | 03-31-2012
14828-R | Croman Corporation, White City, OR | 4 | 03-31-2012
8156-R | Airgas, Inc., Cheyenne, WY | 4 | 03-31-2012
12858-R | Union Carbide, North Seadrift, TX | 4 | 03-31-2012
10043-R | Texas Instruments Incorporated (“TI”), Dallas, TX | 4 | 03-31-2012
12858-R | The Dow Chemical Company, Philadelphia, PA | 4 | 03-31-2012
8445-R | EQ Industrial Services, Inc., Ypsilanti, MI | 4 | 03-31-2012
12325-R | SNF Holding Company, Riceboro, GA | 4 | 03-31-2012
7648-R | American Aviation, Inc., Salt Lake City, UT | 4 | 03-31-2012
8445-R | HazChem Environmental Corporation, Addison, IL | 4 | 03-31-2012
11043-R | HazChem Environmental Corporation, Addison, IL | 4 | 03-31-2012
13192-R | HazChem Environmental Corporation, Addison, IL | 4 | 03-31-2012
14466-R | Alaska Pacific Powder Company, Watkins, CO | 4 | 03-31-2012
7991-R | Evansville Western Railway, Inc., Mt. Vernon, IN | 4 | 03-31-2012
7991-R | Progress Rail Services Corporation, Albertville, AL | 4 | 03-31-2012
12744-R | AFL Network Services, Inc., Duncan, SC | 4 | 03-31-2012
2709-R | ATK Aerospace Systems (Former Grantee: ATK Launch Systems Inc.), Magna, UT | 4 | 03-31-2012
2709-R | Lockheed Martin Missiles and Fire Control, Dallas, TX | 4 | 03-31-2012
12095-R | Univar USA, Portland, OR | 4 | 03-31-2012

[FR Doc. 2012-493 Filed 1-12-12; 8:45 am]

BILLING CODE 4910-60-M